DEPARTMENT OF LABOR

Employment and Training Administration

[TA-W-37,880]

AII Technologies, Inc., El Paso, T; Amended Certification Regarding Eligibility To Apply for Worker Adjustment Assistance

In accordance with section 223 of the Trade Act of 1974 (19 U.S.C. 2273) the Department of Labor issued a Certification of Eligibility to Apply for Worker Adjustment Assistance on September 12, 2000, applicable to workers of AII Technologies, Inc., El Paso, Texas. The notice was published in the Federal Register on September 22, 2000 (65 FR 57386).

At the request of the petitioners, the Department reviewed the certification for workers of the subject firm. The workers were engaged in the production of desk top computers until the company closed in June, 2000.

New information shows that a worker was retained at the subject firm beyond the September 12, 2002 expiration date of the certification. This employee was engaged in employment related to the production of desk top computers until her termination on October 2, 2002.

Based on these findings, the Department is amending the certification to extend the September 12, 2002 expiration date for TA-W-37,880 to read October 2, 2002.

The intent of the Department's certification is to include all workers of AII Technologies, Inc. who were adversely affected by increased imports.

The amended notice applicable to TA-W-37,880 is hereby issued as follows:

“All workers of AII Technologies, Inc., El Paso, Texas, who became totally or partially separated from employment on or after August 21, 1999, through October 2, 2002, are eligible to apply for adjustment assistance under Section 223 of the Trade Act of 1974.

Signed at Washington, DC, this 9th day of July, 2003.
Linda G. Poole,
Certifying Officer, Division of Trade Adjustment Assistance.

[FR Doc. 03-18819 Filed 7-23-03; 8:45 am]

BILLING CODE 4510-30-P